DEPARTMENT OF EDUCATION

[CFDA Nos.: 84.133G and 84.133P]

Office of Special Education and Rehabilitative Services National Institute on Disability and Rehabilitation Research; Notice Inviting Applications for New Awards for Fiscal Year (FY) 2003

SUMMARY: We invite applications for new FY 2003 grant awards under the Field-Initiated (FI) Projects (84.133G) and Advanced Rehabilitation Research Training (ARRT) Projects (84.133P). We take this action to focus research attention on an area of national need.

Applicable Regulations: The Education Department General Administrative Regulations (EDGAR), 34 CFR parts 74, 75, 77, 80, 81, 82, 85, 86 and 97; and 34 CFR part 350.

Application Notice for FY 2003
CFDA No. Program name | Application available | Deadline for transmittal of applications | Estimated available funds | Maximum award amount (per year)* | Estimated number of awards | Project period (months)
84.133G-1 Field-Initiated Projects—Research | September 13, 2002 | November 12, 2002 | $2,250,000 | $150,000 | 15 | 36
84.133G-2 Field-Initiated Projects—Development | September 13, 2002 | November 12, 2002 | 2,250,000 | 150,000 | 15 | 36
84.133P-1 Advanced Rehabilitation Research Training Projects | September 13, 2002 | November 12, 2002 | 750,000 | 150,000 | 3-5 | 60
* Note: We will reject without consideration any application that proposes a budget exceeding the stated maximum award amount in any year (See 34 CFR 75.104(b)).
The Department is not bound by any estimates in this notice.

SUPPLEMENTARY INFORMATION: The priorities contained in this notice reflect issues discussed in the New Freedom Initiative (NFI) and NIDRR's Long-Range Plan (the Plan). The NFI can be accessed on the Internet at: http://www.whitehouse.gov/news/freedominitiative/freedominiative.html.

The Plan can be accessed on the Internet at: http://www.ed.gov/offices/OSERS/NIDRR/Products.

Selection Criteria

Field-Initiated (FI) Projects

The selection criteria to be used to carry out research or development FI projects will be provided in the application package.

Advanced Rehabilitation Research Training (ARRT) Projects

The selection criteria to be used for the ARRT Projects will be provided in the application package.

Field-Initiated Projects: (CFDA Number 84.133G).

Purpose of Program: FI projects must further one or both of the following purposes: (a) Develop methods, procedures, and rehabilitation technology that maximize the full inclusion and integration into society, employment, independent living, family support, and economic and social self-sufficiency of individuals with disabilities, especially individuals with the most severe disabilities; or (b) improve the effectiveness of services authorized under the Rehabilitation Act of 1973, as amended (the Act). FI projects carry out either research activities or development activities.

In carrying out a research activity, a grantee must identify one or more hypotheses and, based on the hypotheses identified, perform an intensive, systematic study directed toward new scientific knowledge or contribute to better understanding of the subject, problem studied or body of knowledge.

In carrying out a development activity, a grantee must use knowledge and understanding gained from research to create materials, devices, systems, or methods beneficial to the target population, including design and development of prototypes and processes. Target population means the group of individuals, organizations, or other entities expected to be affected by the project. More than one group may be involved since a project may affect those who receive services, provide services, or administer services.

There are two different sets of selection criteria for FI projects: one set to evaluate applications proposing to carry out research activities, and a second set to evaluate applications proposing to carry out development activities. The set of FI selection criteria that will be used to evaluate an application will be based on the applicant's designation of the type of activity that the application proposes to carry out.

The applicant should: (a) Clearly identify on the cover page of the application, block 4, whether the proposal is for a research or a development project; (b) identify if the application is a resubmittal from a previous competition, within the past two years, by putting the word resubmittal on the cover page of the application in block 13 along with the descriptive title; (c) if the application is a resubmittal from a previous competition, within the past two years, include the assigned application number (i.e., H133G01, H133G02) in the abstract, the introduction, and in a cover letter; and (d) if applicable, identify their qualifying minority entity status in the abstract and transmittal letter.

Invitational Priorities

The Secretary is particularly interested in applications that address one of the following invitational priorities. However, under 34 CFR 75.105(c)(1), an application that meets an invitational priority does not receive competitive or absolute preference over other applications. The invitational priorities are: (a) Projects that improve the exit of individuals with disabilities from buildings, vehicles, and other settings in emergencies; (b) projects that study use of the new “International Classification of Functioning, Disability and Health” (ICIDH-2) systems in promoting the independence and quality of life of persons with disabilities; (c) projects that collaborate with international assistive technology and rehabilitation engineering projects including, but not limited to, those that could be carried out under Science and Technology Agreements between the U.S. and other countries; (d) projects that enhance functioning of people with newly recognized disabilities, such as multiple chemical sensitivity (MCS), chronic fatigue immune deficiency syndrome (CFIDS), and fibromyalgia; and (e) projects that study mental health interventions related to traumatic stress of individuals with disabilities.

Eligible Applicants: Parties eligible to apply for grants under this program are States; public or private agencies, including for-profit agencies; public or private organizations, including for-profit organizations; institutions of higher education; and Indian tribes and tribal organizations.

Program Authority: 29 U.S.C. 764.

Advanced Rehabilitation Research Training Projects: (CFDA Number 84.133P).

Purpose of Program: ARRT projects must provide research training and experience at an advanced level to individuals with doctorates or similar advanced degrees who have clinical or other relevant experience. ARRT projects train rehabilitation researchers, including individuals with disabilities, with particular attention to research areas that support the implementation and objectives of the Rehabilitation Act of 1973, as amended (the Act) and that improve the effectiveness of services authorized under the Act.

ARRT projects must carry out all of the following activities: (1) Recruit and select candidates for advanced research training; (2) provide a training program that includes didactic and classroom instruction, is multidisciplinary, and emphasizes scientific methodology, and may involve collaboration among institutions; (3) provide research experience, laboratory experience, or its equivalent in a community-based research setting, and a practicum that involves each individual in clinical research and in practical activities with organizations representing individuals with disabilities; (4) provide academic mentorship or guidance, and opportunities for scientific collaboration with qualified researchers at the host university and other appropriate institutions; and (5) provide opportunities for participation in the development of professional presentations and publications, and for attendance at professional conferences and meetings as appropriate for the individual's field of study and level of experience.

Eligible Applicants: Institutions of higher education are eligible to receive awards under this program.

Program Authority: 29 U.S.C. 762(k).

Instructions for Transmittal of Applications:

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Instructions for transmitting applications will be provided in the application package.

Pilot Project for Electronic Submission of Applications

In Fiscal Year 2003, the U.S. Department of Education is continuing to expand its pilot project of electronic submission of applications to include additional formula grant programs and additional discretionary grant competitions. The Field-Initiated Projects program—CFDA 84.133G and the Advanced Rehabilitation Research Training Projects program—CFDA 84.133P are two of the programs included in the pilot project. If you are an applicant under these programs, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Assistance (ED 424), Budget Information—Non-Construction Programs (ED 524), and all necessary assurances and certifications.

• Within three working days of submitting your electronic application fax a signed copy of the Application for Federal Assistance (ED 424) to the Application Control Center after following these steps:

(1) Print ED 424 from the e-APPLICATION system.

(2) Make sure that the institution's Authorizing Representative signs this form.

(3) Before faxing this form, submit your electronic application via the e-APPLICATION system. You will receive an automatic acknowledgement, which will include a PR/Award number (an identifying number unique to your application).

(4) Place the PR/Award number in the upper right hand corner of ED 424.

(5) Fax ED 424 to the Application Control Center at (202) 260-1349.

• We may request that you give us original signatures on all other forms at a later date.

You may access the electronic grant application for the (Field-Initiated Projects program (CFDA 84.133G-1, Research or 84.133G-2, Development and Advanced Rehabilitation Research Training Projects program (CFDA 84.133P-1) at: http://e-grants.ed.gov.

We have included additional information about the e-APPLICATION pilot project (see Parity Guidelines between Paper and Electronic Applications) in the application package.

Please note that due to the Department's end of the fiscal year close out activities, the e-APPLICATION system will be unavailable from October 1 through October 5. It will become available for users again on Monday, October 7.

For Applications Contact: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs via its Web site: http://www.ed.gov/pubs/edpubs.html or its E-mail address (edpubs@inet.ed.gov). If you request an application from ED Pubs, be sure to identify this competition as follows: CFDA number 84.133G or 84.133P.

Individuals with disabilities may obtain a copy of the application package in an alternative format by contacting the Grants and Contracts Services Team, U.S. Department of Education, 400 Maryland Avenue, SW., room 3317, Switzer Building, Washington, DC 20202-2550. Telephone: (202) 205-8351. If you use a telecommunications device for the deaf (TDD), you may call the Federal Information Relay Services (FIRS) at 1-800-877-8339. However, the Department is not able to reproduce in an alternative format the standard forms included in the application package.

For Applications Contact: The Grants and Contracts Service Team (GCST), Department of Education, 400 Maryland Avenue, SW., room 3317, Switzer Building, Washington, DC 20202, or call (202) 205-8207. Individuals who use a telecommunications device for the deaf (TDD) may call the TDD number at (202) 205-9860. The preferred method for requesting information is to FAX your request to (202) 205-8717.

Individuals with disabilities may obtain a copy of the application package in an alternative format by contacting GCST. Telephone: (202) 205-8351. If you use a TDD, you may call the Federal Information Relay Services (FIRS) at 1-800-877-8339. However, the Department is not able to reproduce in an alternative format the standard forms included in the application package.

FOR FURTHER INFORMATION CONTACT: Donna Nangle, U.S. Department of Education, 400 Maryland Avenue, SW., room 3412, Switzer Building, Washington, DC 20202-2645. Telephone: (202) 205-5880 or via the Internet: donna.nangle@ed.gov.

If you use a telecommunications device for the deaf (TDD), you may call the TDD number at (202) 205-4475. Individuals with disabilities may obtain this document in an alternative format (e.g., Braille, large print, audiotape, or computer diskette) on request to the contact person listed under FOR FURTHER INFORMATION CONTACT.

Electronic Access to This Document

You may review this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO access at: http://www.access.gpo.gov/nara/index.html.

Dated: September 9, 2002.
Robert H. Pasternack,
Assistant Secretary for Special Education and Rehabilitative Services.

[FR Doc. 02-23396 Filed 9-12-02; 8:45 am]

BILLING CODE 4000-01-P